DEPARTMENT OF HOMELAND SECURITY

Coast Guard

33 CFR Part 117

[Docket No. USCG-2014-0237]

Drawbridge Operation Regulation; Duwamish Waterway, Seattle, WA

AGENCY: Coast Guard, DHS.

ACTION: Notice of deviation from drawbridge regulation.

SUMMARY: The Coast Guard has issued a temporary deviation from the operating schedule that governs the South Park Highway Bridge across the Duwamish Waterway, mile 3.8, at Seattle, Washington. The deviation is necessary to enable timely completion of drawbridge construction. This deviation allows the drawbridge to remain closed to mariners needing a full channel, double bascule leaf drawbridge opening unless 12 hours advance notice is provided. Mariners that only require a single leaf, half channel drawbridge opening will be given an opening upon signal.

DATES: This deviation is effective without actual notice from April 15, 2014 until 11:59 p.m. on September 1, 2014. For the purposes of enforcement, actual notice will be used from 12:01 a.m. on March 30, 2014, until April 15, 2014.

ADDRESSES: The docket for this deviation, [USCG-2014-0237] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Mr. Steven M. Fischer, Thirteenth District Bridge Administrator, Coast Guard; telephone 206-220-7282, email: Steven.M.Fischer3@uscg.mil. If you have questions on viewing the docket, call Cheryl Collins, Program Manager, Docket Operations, telephone 202-366-9826.

SUPPLEMENTARY INFORMATION: The South Park Highway double bascule span drawbridge replacement project has progressed to the point where both bascule spans have been installed. King County Road Services Division requested a deviation to the drawbridge operation schedule to enable timely completion of the bridge construction project. The South Park Highway Double Bascule Bridge is located at Duwamish Waterway, mile 3.8, in the city of Seattle, Washington, and provides 34.8 feet of vertical clearance above at center span while in the closed position and 30 feet of vertical clearance at the extreme east and west ends of the navigable channel and unlimited vertical clearance with the bascule bridge in the fully open position. Vertical clearances are referenced to mean high-water elevation (MHW). Horizontal clearance is 128 feet. However, horizontal clearance may be restricted by construction barges. As such, mariners are advised to consult the Local Notice to Mariners for current conditions.

The normal operation schedule for the bridge is in 33 CFR 117.1041, which specifies that the draws of each bridge across the Duwamish Waterway shall open on signal, except the draw of the South Park highway bridge, mile 3.8, which need not be opened for the passage of vessels from 6:30 a.m. to 8:00 a.m. and 3:30 p.m. to 5:00 p.m., Monday through Friday, excluding Federal holidays. The South Park highway bridge shall open on the specified signal of one prolonged blast followed quickly by one short blast and one prolonged blast. When fog prevails by day or by night, the drawtender of the South Park highway bridge, after giving the acknowledging signal to open, shall toll a bell continuously during the approach and passage of vessels.

The deviation period is effective from 12:01 a.m. on March 30, 2014 to 11:59 p.m. on September 1, 2014, and allows the drawbridge to remain closed to mariners needing a full channel, double bascule leaf drawbridge opening unless 12 hours advance notice is provided. Mariners that only require a single leaf half channel drawbridge opening will be given an opening upon signal. A drawtender will be present 24 hours a day, 7 days week. To request a single leaf opening, mariners may utilize any of the following methods: (1) via VHF maritime radio channel 13; (2) telephone, with the numbers posted in the Notice to Mariners; (3) one prolonged blast followed quickly by one short blast and one prolonged blast. All double leaf openings require 12 hour notification by VHF maritime radio channel 13 or telephone; double leaf openings will not be granted when requested by signal.

Waterborne traffic on this stretch of the Duwamish waterway consists of vessels ranging from small pleasure craft, sailboats, small tribal fishing boats, and commercial tug and tow, and mega yachts. Vessels able to pass through the bridge in the closed positions may do so at anytime but are advised to use caution as the area surrounding the bridge has numerous construction craft and equipment in the water. The bridge will not be able to open for emergencies and there is no immediate alternate route for vessels to pass. The Coast Guard will also inform the users of the waterways through our Local and Broadcast Notices to Mariners of the change in operating schedule for the bridge so that vessels can arrange their transits to minimize any impact caused by the temporary deviation.

In accordance with 33 CFR 117.35(e), the drawbridge must return to its regular operating schedule immediately at the end of the effective period of this temporary deviation. This deviation from the operating regulations is authorized under 33 CFR 117.35.

Dated: March 30, 2014.
Steven M. Fischer,
Bridge Administrator, Thirteenth Coast Guard District.

[FR Doc. 2014-08550 Filed 4-14-14; 8:45 am]

BILLING CODE 9110-04-P